FEDERAL COMMUNICATIONS COMMISSION

[CG Docket No. 03-123; DA 17-1213]

Pleading Cycle Established for Comment on Applications for State Certification for the Provision of Telecommunications Relay Service

AGENCY: Federal Communications Commission.

ACTION: Notice.

SUMMARY: In this document, the Commission seeks public comment on state applications for renewal of the certification of their state telecommunications relay services (TRS) programs.

DATES: Interested parties may file comments no later than February 22, 2018. Reply comments may be filed no later than March 9, 2018.

ADDRESSES: Comments may be filed using the Commission's Electronic Comment Filing System (ECFS). See Electronic Filing of Documents in Rulemaking Proceedings, 63 FR 24121 (1998).

• Electronic Filers: Documents may be filed electronically using the internet by accessing ECFS: https://www.fcc.gov/ecfs/.

• Paper Filers: Parties who choose to file by paper must file an original and one copy of each filing.

• Filings can be sent by hand or messenger delivery, by commercial overnight courier, or by first-class or overnight U.S. Postal Service mail. All filings must be addressed to the Commission's Secretary, Office of the Secretary, Federal Communications Commission.

• All hand-delivered or messenger-delivered paper filings for the Commission's Secretary must be delivered to FCC Headquarters at 445 12th Street SW, Room TW-A325, Washington, DC 20554. The filing hours are 8:00 a.m. to 7:00 p.m. All hand deliveries must be held together with rubber bands or fasteners. Any envelopes and boxes must be disposed of before entering the building.

• Commercial overnight mail (other than U.S. Postal Service Express Mail and Priority Mail) must be sent to 9050 Junction Drive, Annapolis Junction, MD 20701.

• U.S. Postal Service first-class, Express, and Priority mail must be addressed to 445 12th Street SW, Washington, DC 20554.

FOR FURTHER INFORMATION CONTACT: Dana Wilson, Consumer and Governmental Affairs Bureau at: (202) 418-2247; email: Dana.Wilson@fcc.gov.

SUPPLEMENTARY INFORMATION: Interested parties may file comments on or before the dates indicated above in the Dates portion of this notice. All filings must reference CG Docket No. 03-123 and the relevant state identification number of the state application for which comments are being submitted.

To request materials in accessible formats for people with disabilities (Braille, large print, electronic files, audio format), send an email to fcc504@fcc.gov or call the Consumer and Governmental Affairs Bureau at (202) 418-0530 (voice), (844) 432-2275 (videophone), or (202) 418-0432 (TTY). Document DA 17-1213 can also be downloaded in Word or Portable Document Format (PDF) at: https://www.fcc.gov/general/telecommunications-relay-services-trs.

Synopsis

Notice is hereby given that the states listed below have applied to the Commission for renewal of certification of their state TRS programs, for the five-year period from July 26, 2018 through July 25, 2023. Each state's application for certification must demonstrate that its TRS program complies with section 225 of the Communications Act and the Commission's rules governing the provision of TRS. This notice seeks public comment on the following state applications for certification, which can be found on the Commission's website at: https://www.fcc.gov/general/trs-state-and-territories.

File No: TRS-46-17

Alabama Public Service Commission, State of Alabama

File No: TRS-02-17

Commission for the Deaf and Hard of Hearing, State of Arizona

File No: TRS-47-17

Arkansas Deaf and Hearing Impaired, State of Arkansas

File No: TRS-35-17

Delaware Public Service Commission, State of Delaware

File No: TRS-49-17

Public Service Commission, District of Columbia

File No: TRS-51-17

Georgia Public Service Commission, State of Georgia

File No: TRS-43-17

Idaho Public Service Commission, State of Idaho

File No: TRS-03-17

Iowa Utilities Board, State of Iowa

File No: TRS-07-17

Kansas Dual Party Relay Services, State of Kansas

File No: TRS-52-17

Kentucky Public Service Commission, Commonwealth of Kentucky

File No: TRS-53-17

Office of the Public Advocate, State of Maine

File No: TRS-33-17

Telecommunications Access of Maryland, State of Maryland

File No: TRS-34-17

Dept. of Telecommunications and Cable, Commonwealth of Massachusetts

File No: TRS-54-17

Michigan Public Service Commission, State of Michigan

File No: TRS-39-17

Minnesota Dept. of Commerce Telecommunications Access Minnesota, State of Minnesota

File No: TRS-15-17

Missouri Public Service Commission, State of Missouri

File No: TRS-56-17

Dept. of Public Health and Human Services, State of Montana

File No: TRS-25-17

Dept. of Health and Human Services Aging and Disability Services, State of Nevada

File No: TRS-45-17

New Jersey Board of Public Utilities, State of New Jersey

File No: TRS-14-17

Commission for the Deaf and Hard of Hearing, State of New Mexico

File No: TRS-16-17

New York State Dept. of Public Service, State of New York

File No: TRS-12-17

Public Service Commission, Commonwealth of North Dakota

File No: TRS-37-17

Public Utilities Commission of Ohio, State of Ohio

File No: TRS-57-17

Oklahoma Telephone Association, State of Oklahoma

File No: TRS-62-17

Micronesian Telephone Corporation d/b/a Pacific Telecom, Inc., Saipan

File No: TRS-60-17

Public Service Commission, State of South Dakota

File No: TRS-09-17

Public Service Commission, State of Utah

File No: TRS-44-17

Vermont Dept. of Public Service, State of Vermont

Federal Communications Commission.
Eliot Greenwald,
Deputy Chief, Disability Rights Office, Consumer and Governmental Affairs Bureau.

[FR Doc. 2018-01083 Filed 1-22-18; 8:45 am]

BILLING CODE 6712-01-P